NUCLEAR REGULATORY COMMISSION

Sunshine Act Meetings

AGENCY HOLDING THE MEETING: Nuclear Regulatory Commission.

DATE: Weeks of September 4, 11, 18, 25, October 2, and 9, 2000.

PLACE: Commissioners' Conference Room, 11555 Rockville Pike, Rockville, Maryland.

STATUS: Public and Closed.

MATTERS TO BE CONSIDERED: Week of September 4

There are no meetings scheduled for the Week of September 4.

Week of September 11—Tentative

There are no meetings scheduled for the Week of September 11.

Week of September 18—Tentative

There are no meetings scheduled for the Week of September 18.

Week of September 25—Tentative

Friday, September 29

9:25 a.m. Affirmation Session (Public Meeting) (If needed)

9:30 a.m. Briefing on Risk-Informing Special Treatment Requirements (Public Meeting) (Contact: Tim Reed, 301-415-1462)

1:30 p.m. Briefing on Threat Environment Assessment (Closed-Ex. 1)

Week of October 2—Tentative

Friday, October 6

9:25 a.m. Affirmation Session (Public Meeting) (If needed)

9:30 a.m. Meeting with ACRS (Public Meeting) (Contact: John Larkins, 301-415-7360)

Week of October 9—Tentative

There are no meetings scheduled for the Week of October 9.

The Schedule for Commission meetings is subject to change on short notice. To verify the status of meetings call (Recording)—(301) 415-1292.

CONTACT PERSON FOR MORE INFORMATION: Bill Hill (301) 415-1661.

* * * * *

ADDITIONAL INFORMATION: By a vote of 5-0 on August 30, the Commission determined pursuant to U.S.C. 552b(e) and § 9.107(a) of the Commission's rules that “Affirmation of VERMONT YANKEE NUCLEAR POWER CORP & AMERGEN VERMONT, LOC (Vermont Yankee Nuclear Power Station), Docket No. 50-271-LT; Citizens Awareness Network's (“CAN”) Motion to Stay the Effectiveness of NRC Staff's July 7th Order Approving License Transfer (July 14, 2000)” be held on August 30, and on less than one week's notice to the public.

* * * * *

The NRC Commission Meeting Schedule can be found on the Internet at: http://www.nrc.gov/SECY/smj/schedule.htm.

* * * * *

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: September 1, 2000.
William M. Hill, Jr.,
SECY Tracking Officer, Office of the Secretary.

[FR Doc. 00-22970 Filed 9-1-00; 2:17 pm]

BILLING CODE 7590-01-M